DEPARTMENT OF TRANSPORTATION

Maritime Administration

[Docket No. MARAD-2023-0118]

Request for Comments on the Renewal of a Previously Approved Information Collection: Generic Clearance of Customer Satisfaction Surveys

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0546 (Generic Clearance of Customer Satisfaction Surveys) will be used to obtain feedback about customer service delivery. The Paperwork Reduction Act of 1995 requires that we publish this notice in the Federal Register to obtain comments from the public and affected agencies.

DATES: Comments must be submitted on or before August 7, 2023.

ADDRESSES: You may submit comments identified by Docket No. MARAD-2023-0118 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: Tamelia Bolton, (202) 366-7278, Office of Management and Administrative Services, Maritime Administration, Department of Transportation, 1200 New Jersey Avenue SE, Washington, DC 20590, Email: Tamelia.Bolton@dot.gov.

SUPPLEMENTARY INFORMATION:

Title: Generic Clearance of Customer Satisfaction Surveys.

OMB Control Number: 2133-0546.

Type of Request: Renewal of a previously approved information collection.

Abstract: OMB 2133-0546 (Generic Clearance Customer Satisfaction Surveys) is necessary to enable MARAD to garner customer and stakeholder feedback in an efficient and timely manner, in accordance with our commitment to improve service delivery. The collected information will help ensure that users have an effective, efficient, and satisfying experience with the agency's programs. This feedback will also provide insight into customer or stakeholder perceptions, experiences, and expectations. This collection is also intended to provide early warning about issues with service delivery, or focus attention on areas where communication, training, and/or changes in operations might improve customer service experience. Additionally, this collection will facilitate ongoing, collaborative, and actionable communication between MARAD and its customers and stakeholders. Public feedback is also expected to contribute directly to the improvement of program operations that directly affect the public.

Respondents: Individuals and households, business and organizations, State, local or Tribal government.

Affected Public: Individuals and households, business and organizations, State, local or Tribal government.

Estimated Number of Respondents: 5,900.

Estimated Number of Responses: 5,900.

Estimated Hours per Response: 10-20 mins.

Annual Estimated Total Annual Burden Hours: 1,758.

Frequency of Response: Once per request.

(Authority: The Paperwork Reduction Act of 1995; 44 U.S.C. Chapter 35, as amended; and 49 CFR 1.49.)

By Order of the Maritime Administrator.
T. Mitchell Hudson, Jr.,
Secretary, Maritime Administration.

[FR Doc. 2023-11999 Filed 6-5-23; 8:45 am]

BILLING CODE 4910-81-P